DEPARTMENT OF THE TREASURY

Internal Revenue Service

26 CFR Part 1

[REG-106359-02]

RIN 1545-BA57

Compensatory Stock Options Under Section 482; Correction

AGENCY: Internal Revenue Service (IRS), Treasury.

ACTION: Correction to notice of proposed rulemaking and notice of public hearing.

SUMMARY: This document contains corrections to a notice of proposed rulemaking and notice of public hearing published in the Federal Register on Monday, July 29, 2002 (67 FR 48997) that provides guidance regarding the application of the rules of section 482 governing qualified cost sharing arrangements.

FOR FURTHER INFORMATION CONTACT: Douglas Giblen, (202) 874-1490 (not a toll-free number).

SUPPLEMENTARY INFORMATION:

Background

The temporary regulations that are the subject of these corrections are under section 355(e) of the Internal Revenue Code.

Need for Correction

As published, REG-106359-02 contains errors which may prove to be misleading and are in need of clarification.

Correction of Publication

Accordingly, the publication of the (REG-106359-02), which is the subject of FR Doc. 02-19126 is corrected as follows:

1. On page 49001, column 2, in the preamble under the paragraph heading “Comments and Public Hearing”, first full paragraph, line 2, the language “for October 21, 2002, at 10 a.m., in” is corrected to read “for November 20, 2002, at 10 a.m., in”.

2. On page 49001, column 2, in the preamble under the paragraph heading “Comments and Public Hearing”, second paragraph, third line from the bottom, the language “September 30, 2002. A period of 10” is corrected to read “October 30, 2002. A period of 10”.

Cynthia Grigsby,
Chief, Regulations Unit, Associate Chief Counsel (Income Tax and Accounting).

[FR Doc. 02-20758 Filed 8-14-02; 8:45 am]

BILLING CODE 4830-01-P